COMMISSION ON CIVIL RIGHTS

Agenda and Notice of Public Meetings of the South Dakota Advisory Committee

AGENCY: Commission on Civil Rights.

ACTION: Announcement of briefing meetings.

SUMMARY: Notice is hereby given, pursuant to the provisions of the rules and regulations of the U.S. Commission on Civil Rights (Commission), and the Federal Advisory Committee Act (FACA), that briefing meetings of the South Dakota Advisory Committee to the Commission will convene at 10:00 a.m. (CDT) on Tuesday, July 24, 2018 in Pine Ridge, South Dakota and at 10:00 a.m. (CDT) on Wednesday, July 25, 2018 in Pierre, SD. The purpose of the briefings is to hear from government officials, advocates, and others on Subtle Racism in South Dakota.

DATES: Tuesday, July 24, 2018 and Wednesday, July 25, 2018.

Time: Both days will begin at 10:00 a.m.

ADDRESSES: Pine Ridge Briefing: Tuesday, July 24, 2018 at the Prairie Wind Casino and Hotel, 26 Casino Drive, Oglala SD 57764.

Pierre Briefing: Wednesday, July 25, 2018 at the Pierre Chamber of Commerce, 800 West Dakota Avenue, Pierre SD 57501.

FOR FURTHER INFORMATION CONTACT: Evelyn Bohor at ebohor@usccr.gov, or 303-866-1040.

SUPPLEMENTARY INFORMATION: If other persons who plan to attend the briefings require other accommodations, please contact Evelyn Bohor at ebohor@usccr.gov at the Rocky Mountain Regional Office at least ten (10) working days before the scheduled date of the briefings.

Time will be set aside at the end of each briefing so that members of the public may address the Committee after the formal presentations have been completed. Persons interested in the issue are also invited to submit written comments; the comments must be received in the regional office by August 25, 2018. Written comments may be mailed to the Rocky Mountain Regional Office, U.S. Commission on Civil Rights, 1961 Stout Street, Suite 13-201, Denver, CO 80294, faxed to (303) 866-1050, or emailed to Evelyn Bohor at ebohor@usccr.gov. Persons who desire additional information may contact the Rocky Mountain Regional Office at (303) 866-1040.

Records and documents discussed during the briefings will be available for public viewing as they become available at https://facadatabase.gov/committee/meetings.aspx?cid=274 and clicking on the “Meeting Details” and “Documents” links. Records generated from these briefings may also be inspected and reproduced at the Rocky Mountain Regional Office, as they become available, both before and after the briefings. Persons interested in the work of this advisory committee are advised to go to the Commission's website, www.usccr.gov, or to contact the Rocky Mountain Regional Office at the above phone number, email or street address.

Tentative Agendas

Tuesday, July 24 and Wednesday, July 25, 2018; 10 a.m.

I. Welcome and Introductions

II. Briefings

III. Open Session

IV. Adjournment

Dated: July 3, 2018
David Mussatt,
Supervisory Chief, Regional Programs Unit.

[FR Doc. 2018-14605 Filed 7-6-18; 8:45 am]

BILLING CODE P